DEPARTMENT OF THE INTERIOR

National Park Service

[NPS-WASO-NAGPRA-23751; PPWOCRADN0-PCU00RP14.R50000]

Notice of Intent To Repatriate Cultural Items: Tennessee Valley Authority, Knoxville, TN

AGENCY: National Park Service, Interior.

ACTION: Notice.

SUMMARY: The Tennessee Valley Authority (TVA), in consultation with the appropriate Indian Tribes or Native Hawaiian organizations, has determined that the cultural items listed in this notice meet the definition of unassociated funerary objects. Further, TVA has determined that a cultural affiliation between the unassociated funerary objects and present-day federally recognized Indian Tribes can be reasonably traced. Lineal descendants or representatives of any Indian Tribe or Native Hawaiian organization not identified in this notice that wish to claim these cultural items should submit a written request to TVA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to TVA at the address in this notice by September 27, 2017.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3005, of the intent to repatriate cultural items under the control of the Tennessee Valley Authority, Knoxville, TN, which meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On September 28, 1938, two cultural items were removed from the Laws site (1MS100) on Pine Island in Marshall County, AL, after TVA acquired the land on April 21, 1937. There appear to have been at least four occupations at site 1MS100: A pre-ceramic period with steatite vessels; a village period with limestone-tempered pottery during the Flint River phase (A.D. 500-1000); a late Mississippian occupation with shell-tempered ceramics and rectilinear wall trench structures (Crow Creek phase, A.D. 1500-1700); and burials with Euro-American trade goods (circa A.D. 1670-1715). The two unassociated funerary objects are one brass pendant and one brass ring.

Excavation records from site 1MS100 indicated that these two unassociated funerary objects were found in burial unit 1 with the fragmentary remains of a child. The human remains are no longer present. The brass ring found in burial unit 1 is similar to the brass rings found in burial units 17 and 40 of the same site which were also child burials. In a separate Notice of Inventory Completion, the human remains from burial units 17 and 40 have been culturally affiliated to Native American descendants of the Koasati/Kaskinampo. These descendants include the Alabama-Coushatta Tribe of Texas (previously listed as the Alabama-Coushatta Tribes of Texas); Alabama-Quassarte Tribal Town; Coushatta Tribe of Louisiana; and The Muscogee (Creek) Nation.

On November 29, 1937, two unassociated funerary objects were excavated from burial unit 6 at site 1MS121 on Pine Island in Marshall County, AL, after TVA purchased the land on April 19, 1937. There were excavations in both the village and adjacent mound. There are no radiocarbon dates for this site. Artifacts recovered from the site indicate both a Woodland and Mississippian occupation. The two unassociated funerary objects are one Barton Incised jar and one Bell Plain carinated bowl. Both ceramic vessels are from the Mississippian period.

Excavation documents indicate that burial unit 6 did contain human remains, with these funerary objects placed near the head of the individual. These human remains are no longer present. The unassociated funerary objects are similar to those found in burial units 2, 4, and 5 of the same site. In a separate Notice of Inventory Completion, the human remains from burial units 2, 4, and 5 have been culturally affiliated to Native American descendants of the Koasati/Kaskinampo. These descendants include the Alabama-Coushatta Tribe of Texas (previously listed as the Alabama-Coushatta Tribes of Texas); Alabama-Quassarte Tribal Town; Coushatta Tribe of Louisiana; and The Muscogee (Creek) Nation.

Chronicles from Spanish explorers of the 16th century and French explorers of the 17th and 18th century indicate the presence of chiefdom level tribal entities in the southeastern United States which resemble the Mississippian chiefdoms. Linguistic analysis of place names noted by multiple Spanish explorers indicates that Koasati speaking groups inhabited northeastern Alabama. Early maps and research into the historic Native American occupation of northeastern Alabama indicates that the Koasati (as called by the English) or the Kaskinampo (as called by the French) were found at multiple sites in Jackson and Marshall Counties in the 17th and 18th centuries. Oral history, traditions, and expert opinions of the descendants of Koasati/Kaskinampo indicate that this portion of the Tennessee River valley was a homeland of the Koasati/Kaskinampo people. The subsequent involuntary diaspora of these peoples resulted in descendants of the Koasati/Kaskinampo among multiple federally recognized Indian Tribes.

Determinations Made by the Tennessee Valley Authority

Officials of the Tennessee Valley Authority have determined that:

• Pursuant to 25 U.S.C. 3001(3)(B), the four cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and the Alabama-Coushatta Tribe of Texas (previously listed as the Alabama-Coushatta Tribes of Texas); Alabama-Quassarte Tribal Town; Coushatta Tribe of Louisiana; and The Muscogee (Creek) Nation.

Additional Requestors and Disposition

Lineal descendants or representatives of any Indian Tribe or Native Hawaiian organization not identified in this notice that wish to claim these cultural items should submit a written request with information in support of the claim to Dr. Thomas O. Maher, TVA, 400 West Summit Hill Drive, WT11D, Knoxville, TN 37902-1401, telephone (865) 632-7458, email tomaher@tva.gov, by September 27, 2017. After that date, if no additional claimants have come forward, transfer of control of the unassociated funerary objects to the Alabama-Coushatta Tribe of Texas (previously listed as the Alabama-Coushatta Tribes of Texas); Alabama-Quassarte Tribal Town; Coushatta Tribe of Louisiana; and The Muscogee (Creek) Nation may proceed.

The TVA is responsible for notifying the Absentee Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and United Keetoowah Band of Cherokee Indians in Oklahoma that this notice has been published.

Dated: July 11, 2017.
Melanie O'Brien,
Manager, National NAGPRA Program.

[FR Doc. 2017-18187 Filed 8-25-17; 8:45 am]

BILLING CODE 4312-52-P